Title 3—

The President

Proclamation 8701 of August 31, 2011

National Alcohol and Drug Addiction Recovery Month, 2011

By the President of the United States of America

A Proclamation

Recovering from addiction to alcohol and other drugs takes strength, faith, and commitment. Men and women in recovery showcase the power each of us holds to transform ourselves, our families, and our communities. As people share their stories and celebrate the transformative power of recovery, they also help dispel myths and stigmas surrounding substance abuse and offer hope for lifestyles free from alcohol and other drugs.

This month and throughout the year, we must promote recovery and support the growth of healthy, resilient individuals and families in the United States. Today, alcohol and other drugs threaten the future of millions of Americans. Abuse of prescription medication has reached epidemic levels, drunk and drugged driving pose significant threats to public safety, and individuals in recovery continue to confront barriers to full participation in our society. My Administration is committed to reducing substance abuse, and this year we released our 2011 National Drug Control Strategy, which supports successful, long-term recoveries through research, education, increased access to treatment, and community-based recovery support.

As a Nation, we must strive to promote second chances and recognize each individual’s ability to overcome adversity. We laud and support the millions of Americans in recovery from substance abuse, their loved ones, and the communities that help them sustain recovery, while encouraging those in need to seek help. As we celebrate National Alcohol and Drug Addiction Recovery Month, we pay tribute to the transforming power of recovery, which will continue to heal individuals and communities across our country.

NOW, THEREFORE, I, BARACK OBAMA, President of the United States of America, by virtue of the authority invested in me by the Constitution and the laws of the United States, do hereby proclaim September 2011 as National Alcohol and Drug Addiction Recovery Month. I call upon the people of the United States to observe this month with appropriate programs, ceremonies, and activities.

IN WITNESS WHEREOF, I have hereunto set my hand this thirty-first day of August, in the year of our Lord two thousand eleven, and of the Independence of the United States of America the two hundred and thirty-sixth.

[FR Doc. 2011-22869

Filed 9-2-11; 8:45 am]

Billing code 3195-W1-P